DEPARTMENT OF ENERGY

Federal Energy Regulatory Commission

Combined Notice of Filings #2

Take notice that the Commission received the following qualifying facility filings:

Docket Numbers: QF11-158-000.

Applicants: Alcor Energy Solutions, LLC.

Description: Form 556 of Alcor Energy Solutions, LLC.

Filed Date: 02/28/2011.

Accession Number: 20110228-5120.

Comment Date: None Applicable.

Docket Numbers: QF11-160-000.

Applicants: Peak Oilfield Service Company.

Description: Form 556 of Peak Oilfield Service Company under QF11-160.

Filed Date: 03/02/2011.

Accession Number: 20110302-5058.

Comment Date: None Applicable.

As it relates to any qualifying facility filings, the notices of self-certification [or self-recertification] listed above, do not institute a proceeding regarding qualifying facility status. A notice of self-certification [or self-recertification] simply provides notification that the entity making the filing has determined the facility named in the notice meets the applicable criteria to be a qualifying facility. Intervention and/or protest do not lie in dockets that are qualifying facility self-certifications or self-recertifications. Any person seeking to challenge such qualifying facility status may do so by filing a motion pursuant to 18 CFR 292.207(d)(iii). Intervention and protests may be filed in response to notices of qualifying facility dockets other than self-certifications and self-recertifications.

The filings in the above proceedings are accessible in the Commission's eLibrary system by clicking on the appropriate link in the above list. They are also available for review in the Commission's Public Reference Room in Washington, DC. There is an eSubscription link on the Web site that enables subscribers to receive e-mail notification when a document is added to a subscribed dockets(s). For assistance with any FERC Online service, please e-mail FERCOnlineSupport@ferc.gov or call (866) 208-3676 (toll free). For TTY, call (202) 502-8659.

Dated: March 14, 2011.
Nathaniel J. Davis, Sr.,
Deputy Secretary.

[FR Doc. 2011-6766 Filed 3-22-11; 8:45 am]

BILLING CODE 6717-01-P